DEPARTMENT OF COMMERCE

International Trade Administration

[Docket No. A-533-838]

Notice of Amended Final Determination of Sales at Less Than Fair Value and Antidumping Duty Order: Carbazole Violet Pigment 23 From India

AGENCY: Import Administration, International Trade Administration, Department of Commerce.

EFFECTIVE DATE: December 29, 2004.

FOR FURTHER INFORMATION CONTACT: Lyn Johnson or Susan Lehman, AD/CVD Operations, Office 5, Import Administration, U.S. Department of Commerce, 14th Street and Constitution Avenue, NW., Washington, DC 20230; telephone: (202) 482-5287 or (202) 482-0180.

SUPPLEMENTARY INFORMATION:

Scope of Order

The merchandise subject to this antidumping duty order is carbazole violet pigment 23 (CVP-23) identified as Color Index No. 51319 and Chemical Abstract No. 6358-30-1, with the chemical name of diindolo [3,2-b:3′,2′-m] triphenodioxazine, 8,18-dichloro-5, 15-diethy-5, 15-dihydro-, and molecular formula of C34H22C12N4O2.¹ The subject merchandise includes the crude pigment in any form (e.g., dry powder, paste, wet cake) and finished pigment in the form of presscake and dry color. Pigment dispersions in any form (e.g., pigment dispersed in oleoresins, flammable solvents, water) are not included within the scope of the investigation.

¹ The bracketed section of the product description, [3,2-b:3′,2′-m], is not business proprietary information. In this case, the brackets are simply part of the chemical nomenclature. See December 4, 2003, amendment to petition at 8.

The merchandise subject to this antidumping duty order is classifiable under subheading 3204.17.9040 of the Harmonized Tariff Schedule of the United States (HTSUS). Although the HTSUS subheadings are provided for convenience and customs purposes, our written description of the scope of this order is dispositive.

Amendment To Final Determination

In accordance with sections 735(d) and 771(i) of the Tariff Act of 1930, as amended (the Act), on November 17, 2004, the Department of Commerce (the Department) published its notice of final determination of sales at less than fair value for the antidumping duty investigation of CVP-23 from India. See Notice of Final Determination of Sales at Less Than Fair Value: Carbazole Violet Pigment 23 from India, 69 FR 67306 (November 17, 2004) (Final Determination). We received a timely ministerial-error allegation from Pidilite Industries Limited (Pidilite) pursuant to 19 CFR 351.224(c)(2). No other party alleged ministerial errors or submitted comments.

After analyzing the submission, we have determined, in accordance with section 751(h) of the Act and 19 CFR 351.224(e), that a ministerial error was made by not deducting certain early payment discounts from the price of home-market sales. We have corrected this error. For a more detailed discussion, see the December 9, 2004, memorandum from Susan Lehman to the file entitled “Amended Final Determination Analysis Memorandum for Pidilite Industries Limited.”

Pursuant to section 751(h) of the Act and 19 CFR 351.224(e), we are amending the Final Determination for Pidilite. This also results in a change to the “All Others” rate as indicated below. For calculation of the “All Others” rate, see the December 9, 2004, memorandum from Susan Lehman to the File entitled “Amended All-Others Rate Calculation Memorandum for the Final Determination of the Antidumping Duty Investigation on Carbazole Violet Pigment 23.”

Antidumping Duty Order

On December 22, 2004, pursuant to section 735(d) of the Act, the International Trade Commission (ITC) notified the Department of its final determination that the industry in the United States producing CVP-23 is materially injured within the meaning of section 735(b)(1)(A)(i) of the Act by reason of less-than-fair-value imports of subject merchandise from India. Therefore, in accordance with section 736(a)(1) of the Act, the Department will direct U.S. Customs and Border Protection (CBP) to assess, upon further advice by the Department, antidumping duties equal to the amount by which the normal value of the merchandise exceeds the U.S. price of the merchandise for all relevant entries of CVP-23 from India. These antidumping duties will be assessed on all unliquidated entries of CVP-23 from India that are entered, or withdrawn from the warehouse, for consumption on or after June 24, 2004, the date on which the Department published its Notice of Preliminary Determination of Sales at Less Than Fair Value and Postponement of Final Determination: Carbazole Violet Pigment 23 from India, 69 FR 35293 (June 24, 2004).

Section 733(d) of the Act states that instructions issued pursuant to an affirmative preliminary determination may not remain in effect for more than four months except where exporters representing a significant proportion of exports of the subject merchandise request the Department to extend that four-month period to not more than six months. At the request of exporters, Alpanil Industries (Alpanil) and Pidilite, we extended the four-month period to not more than six months. See 69 FR at 35293. In this investigation, the six-month period began on the date of the publication of the preliminary determination and ends on December 21, 2004. Therefore, in accordance with section 733(d) of the Act and our practice, we will instruct CBP to terminate the suspension of liquidation and to liquidate, without regard to antidumping duties, unliquidated entries of CVP-23 from India entered, or withdrawn from warehouse, for consumption on or after December 21, 2004, and before the date of publication of the ITC's final injury determination in the Federal Register. Suspension of liquidation will continue on or after this date.

On or after the date of publication of the ITC's notice of final determination in the Federal Register, CBP will require, at the same time as importers would normally deposit estimated duties on this merchandise, cash deposits for the subject merchandise equal to the estimated weighted-average antidumping margins listed below, adjusted for export subsidies found in the final determination of the companion countervailing duty investigation of this merchandise. Specifically, for cash deposit purposes, we are subtracting from the applicable cash deposit rate that portion of the rate attributable to the export subsidies found in the affirmative countervailing duty determination for each respondent (i.e., 17.57 percent for Alpanil, 17.02 percent for Pidilite).

The weighted-average margins and cash deposit rates are as follows:

Producer or exporter | Weighted-average margin (percent) | Cash deposit rate (percent)
Alpanil Industries | 27.23 | 9.66.
Pidilite Industries Ltd. | 66.59 (Amended) | 49.57 (Amended).
All Others | 44.80 (Amended) | 27.48 (Amended).

The “All Others” rate applies to all entries of the subject merchandise except for entries from the companies that are identified individually above.

This notice constitutes the antidumping duty order with respect to CVP-23 from India, pursuant to section 736(a) of the Act. Interested parties may contact the Department's Central Records Unit, Room B-099 of the main Department building, for copies of an updated list of antidumping duty orders currently in effect.

The amended final determination is published pursuant to sections 735(d) and 777(i)(1) of the Act. The order is published in accordance with section 736(a) of the Act and 19 CFR 351.211.

Dated: December 22, 2004.
Joseph A. Spetrini,
Acting Assistant Secretary for Import Administration.

[FR Doc. 04-28521 Filed 12-28-04; 8:45 am]

BILLING CODE 3510-DS-M